DEPARTMENT OF HEALTH AND HUMAN SERVICES

National Institutes of Health

National Institute of Mental Health (NIMH); Notice of Meeting

Pursuant to section 10(a) of the Federal Advisory Committee Act, as amended, notice is hereby given of a meeting of the Interagency Autism Coordinating Committee.

The purpose of the IACC meeting is to discuss business, agency updates, and issues related to autism spectrum disorder (ASD) research and services activities. The meeting will be held as a virtual meeting and is open to the public. Individuals who plan to view the virtual meeting and need special assistance or other reasonable accommodations to view the meeting should notify the Contact Person listed below at least seven (7) business days in advance of the meeting. The open session will be videocast and can be accessed from the NIH Videocast website (https://videocast.nih.gov/watch=44055).

Name of Committee: Interagency Autism Coordinating Committee (IACC).

Date: January 19, 2022 Meeting schedule subject to change.

Time: 10:00 a.m. to 5:00 p.m.

Meeting Access: Wednesday, January 19, 2022 https://videocast.nih.gov/watch=44055.

Agenda: To discuss business, updates, and issues related to ASD research and services activities.

Cost: The meeting is free and open to the public.

Registration: A registration web link will be posted on the IACC website (www.iacc.hhs.gov) prior to the meeting. Pre-registration is recommended.

Deadlines: Written/Virtual Public Comment Due Date: Friday, January 7, 2022, by 5:00 p.m. ET, For instructions, see below.

Contact Person: Ms. Rebecca Martin, Office of Autism Research Coordination, National Institute of Mental Health, NIH, 6001 Executive Boulevard, Bethesda, MD 20892-9669, Phone: 301-435-0886, Email: IACCPublicInquiries@mail.nih.gov.

Public Comments

The IACC welcomes public comments from members of the autism community. As the IACC will be updating its Strategic Plan, comments related to issues that the community would like to see highlighted in the new IACC Strategic Plan are welcome. Comments may be submitted in writing via email to IACCPublicInquiries@mail.nih.gov or using the web form at: https://iacc.hhs.gov/meetings/public-comments/submit/index.jsp by 5:00 p.m. ET on Friday, January 7, 2022. A limited number of slots are available for individuals to provide a 2-3-minute summary or excerpt of their written comment to the IACC live during the virtual meeting using the virtual platform. For those interested in that opportunity, please indicate “Interested in providing virtual comment” in your written submission, along with your name, address, email, phone number, and professional/organizational affiliation so that the Office of Autism Research Coordination staff can contact you if a slot is available for you to provide a summary or excerpt of your comment via the virtual platform during the meeting. For any given meeting, priority for virtual comment slots will be given to commenters who have not previously provided virtual comments in the current calendar year. This will help ensure that as many individuals as possible have an opportunity to share comments. Commenters going over their allotted 3-minute slot may be asked to conclude immediately to allow other comments and the rest of the meeting to proceed on schedule.

Public comments received by 5:00 p.m. ET on Friday, January 7, 2022, will be provided to the IACC prior to the meeting for their consideration. Any written comments received after 5:00 p.m. ET, January 7, 2022, may be provided to the IACC either before or after the meeting, depending on the volume of comments received and the time required to process them in accordance with privacy regulations and other applicable Federal policies. The IACC is not able to individually respond to comments. All public comments become part of the public record. Attachments of copyrighted publications are not permitted, but web links or citations for any copyrighted works cited may be provided. For public comment guidelines, see: https://iacc.hhs.gov/meetings/public-comments/guidelines/.

Technical Issues

If you experience any technical problems with the webcast, please email IACCPublicInquiries@mail.nih.gov.

Disability Accommodations

All IACC Full Meetings provide Closed Captioning through the NIH videocast website. Individuals whose full participation in the meeting will require special accommodations (e.g., sign language or interpreting services, etc.) must submit a request to the Contact Person listed on the notice at least seven (7) business days prior to the meeting. Such requests should include a detailed description of the accommodation needed and a way for the IACC to contact the requester if more information is needed to fill the request. Last-minute requests may be made, but may not be possible to accommodate.

Additional Information

Information about the IACC is available on the website: http://www.iacc.hhs.gov.

Dated: November 9, 2021.
Melanie J. Pantoja,
Program Analyst, Office of Federal Advisory Committee Policy.

[FR Doc. 2021-24839 Filed 11-12-21; 8:45 am]

BILLING CODE 4140-01-P